DEPARTMENT OF COMMERCE

National Oceanic and Atmospheric Administration

[I.D. 031604C]

Marine Mammals; File No. 545-1488

AGENCY: National Marine Fisheries Service (NMFS), National Oceanic and Atmospheric Administration (NOAA), Commerce.

ACTION: Issuance of permit amendment.

SUMMARY: Notice is hereby given that the North Gulf Oceanic Society, 60920 Mary Allen Avenue, Homer, AK 99603 (Craig Matkin, Principal Investigator), has been issued an amendment to scientific research Permit No. 545-1488-02 to extend the expiration date through March 31, 2005.

ADDRESSES: The amendment and related documents are available for review upon written request or by appointment in the following office(s): Permits, Conservation and Education Division, Office of Protected Resources, NMFS, 1315 East-West Highway, Room 13705, Silver Spring, MD 20910, phone (301)713-2289, fax (301)713-0376; and Alaska Region, NMFS, P.O. Box 21668, Juneau, AK 99802-1668, phone (907)586-7221.

FOR FURTHER INFORMATION CONTACT: Jill Lewandowski at (301)713-2289.

SUPPLEMENTARY INFORMATION: The requested amendment has been granted under the authority of the Marine Mammal Protection Act of 1972, as amended (16 U.S.C. 1361 et seq.), the provisions of § 216.39 of the Regulations Governing the Taking and Importing of Marine Mammals (50 CFR part 216), the Endangered Species Act of 1973, as amended (ESA; 16 U.S.C. 1531 et seq.), the provisions of § 222.306 of the regulations governing the taking, importing, and exporting of endangered and threatened species (50 CFR parts 222-226).

Issuance of this amendment, as required by the ESA was based on a finding that such permit: (1) Was applied for in good faith; (2) will not operate to the disadvantage of the endangered species which is the subject of this permit; and (3) is consistent with the purposes and policies set forth in section 2 of the ESA.

Dated: March 18, 2004.
Stephen L. Leathery,
Chief, Permits, Conservation and Education Division, Office of Protected Resources, National Marine Fisheries Service.

[FR Doc. 04-6605 Filed 3-23-04; 8:45 am]

BILLING CODE 3510-22-S